DEPARTMENT OF THE TREASURY

Submission for OMB Review; Comment Request

March 20, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before April 27, 2007 to be assured of consideration.

Financial Management Service (FMS)

OMB Number: 1510-0066.

Type of Review: Extension.

Title: 31 CFR Part 208—Management; Final Rule.

Description: This regulation requires that most Federal payments be made by Electronic Funds Transfer (EFT); sets forth waiver requirements; and provides for a low-cost Treasury-designated account to individuals at a financial institution that offers such accounts.

Respondents: Businesses or other for-profit institutions.

Estimated Total Burden Hours: 325 hours.

OMB Number: 1510-0007.

Type of Review: Extension.

Title: Direct Deposit Sign-Up Form and Go Direct Sign Up Form.

Form: SF-1099A, FMS 1200.

Description: The Direct Deposit Sign-Up Form is used by recipients to authorize the deposit of Federal payments into their accounts at financial institutions. The information is used to route the Direct Deposit payment to the correct account at the correct financial institution. It identifies persons who have executed the form.

Respondents: Individuals or households.

Estimated Total Burden Hours: 69,142 hours.

OMB Number: 1510-0019.

Type of Review: Revision.

Title: Claim Against the United States for the Proceeds of a Government Check.

Form: FMS-1133.

Description: The FMS-1133 form is used to collect information needed to process an individual's claim for non-receipt of proceeds from a government check. Once the information is analyzed, a determination is made and a recommendation to the program agency to either settle or deny the claim.

Respondents: Individuals or households.

Estimated Total Burden Hours: 8,814 hours.

Clearance Officer: Wesley Powe, (202) 874-8936. Financial Management Service, Room 135, 3700 East West Highway, Hyattsville, MD 20782.

OMB Reviewer: Alexander T. Hunt, (202) 395-7316. Office of Management and Budget, Room 10235, New Executive Office Building, Washington, DC 20503,

Robert B. Dahl,
Treasury PRA Clearance Officer.

[FR Doc. E7-5669 Filed 3-27-07; 8:45 am]

BILLING CODE 4810-35-P